NUCLEAR REGULATORY COMMISSION

[NRC-2023-0148]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by October 5, 2023. A request for a hearing or petitions for leave to intervene must be filed by November 6, 2023. This monthly notice includes all amendments issued, or proposed to be issued, from July 21, 2023, to August 17, 2023. The last monthly notice was published on August 8, 2023.

ADDRESSES: You may submit comments by any of the following methods however, the NRC encourages electronic comment submission through the Federal rulemaking website:

• Federal rulemaking website: Go to https://www.regulations.gov and search for Docket ID NRC-2023-0148. Address questions about Docket IDs in Regulations.gov to Stacy Schumann; telephone: 301-415-0624; email: Stacy.Schumann@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington, DC 20555-0001, telephone: 301-415-1506; email: kay.goldstein@nrc.gov.

SUPPLEMENTARY INFORMATION:

I. Obtaining Information and Submitting Comments

A. Obtaining Information

Please refer to Docket ID NRC-2023-0148, facility name, unit number(s), docket number(s), application date, and subject when contacting the NRC about the availability of information for this action. You may obtain publicly available information related to this action by any of the following methods:

• Federal Rulemaking website: Go to https://www.regulations.gov and search for Docket ID NRC-2023-0148.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section. The ADAMS accession number for each document referenced (if it is available in ADAMS) is provided the first time that it is mentioned in this document. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0148, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example, in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Arizona Public Service Company, et al; Palo Verde Nuclear Generating Station, Units 1, 2, and 3; Maricopa County, AZ
Docket No(s) | 50-528, 50-529, 50-530.
Application date | June 29, 2023.
ADAMS Accession No | ML23180A222.
Location in Application of NSHC | Pages 16-17 of the Enclosure.
Brief Description of Amendment(s) | The proposed amendments would revise the technical specifications (TSs) with the following changes: • Surveillance Requirement (SR) 3.5.1.2 for TS 3.5.1, “Safety Injection Tanks (SITs)—Operating”; • SR 3.5.2.2 for TS 3.5.2, “Safety Injection Tanks (SITs)—Shutdown”; • Limiting condition for operation (LCO) for TS 3.5.2; and • LCO for TS 3.6.5, “Containment Air Temperature.” The amendments would revise the SIT volumes as design values expressed in cubic feet from the loss-of-coolant accident analyses, with no instrument uncertainties included. Additionally, the amendments would revise the containment air temperature LCO limit to reflect the design-basis accident analytical limit, without instrument uncertainty. These changes are administrative, in that SIT design volumes and containment air temperature analytical values remain unchanged.
Proposed Determination | NSHC.
Name of Attorney for Licensee, Mailing Address | Carey Fleming, Senior Counsel, Pinnacle West Capital Corporation, 500 N. 5th Street, MS 8695, Phoenix, AZ 85004.
NRC Project Manager, Telephone Number | Siva Lingam, 301-415-1564.
Dominion Energy South Carolina, Inc.; Virgil C. Summer Nuclear Station, Unit 1, Fairfield County, SC
Docket No(s) | 50-395.
Application date | June 08, 2023.
ADAMS Accession No | ML23159A233.
Location in Application of NSHC | Section 5.4 (Page 59) of the Enclosure and Pages 1-3 of Attachment 6.
Brief Description of Amendment(s) | The proposed amendment would modify the Virgil C. Summer Nuclear Station (VCSNS) emergency plan by extending emergency response augmentation times; relocating the Emergency Operations Facility and Joint Information Center; defining “Facility Activation” criteria; revising the minimum staffing definition for the Emergency Response Facilities; extending facility activation requirements after declaration of an Alert of higher classification; reorganizing the VCSNS Emergency Plan based on emergency preparedness functions and removing references to chemistry, firefighting, first aid/rescue, and site access control functions while being on shift; and reducing the level at which the dispatch of Offsite Survey Teams are required.
Proposed Determination | NSHC.
Name of Attorney for Licensee, Mailing Address | W. S. Blair, Senior Counsel, Dominion Energy Services, Inc., 120 Tredegar St., RS-2, Richmond, VA 23219.
NRC Project Manager, Telephone Number | G. Ed Miller, 301-415-2481.
DTE Electric Company; Fermi, Unit 2; Monroe County, MI
Docket No(s) | 50-341.
Application date | June 13, 2023.
ADAMS Accession No | ML23164A232.
Location in Application of NSHC | Pages 22-25 of Attachment 1-1.
Brief Description of Amendment(s) | The proposed amendment will modify Fermi 2 updated final safety analysis report (UFSAR) to describe the methodology used to address the impact of potential debris sources from a postulated high-energy line break on the emergency core cooling system suppression pool strainer performance. The amendment will revise the licensing basis as described in the UFSAR to allow the use of a risk-informed methodology. The Fermi technical specifications are unaffected by this change.
Proposed Determination | NSHC.
Name of Attorney for Licensee, Mailing Address | Jon P. Christinidis, DTE Electric Company, Expert Attorney—Regulatory, 1635 WCB, One Energy Plaza, Detroit, MI 48226.
NRC Project Manager, Telephone Number | Surinder Arora, 301-415-1421.
Duke Energy Florida, LLC; Crystal River Unit 3 Nuclear Generating Station; Citrus County, FL
Docket No(s) | 50-302.
Application date | June 09, 2023.
ADAMS Accession No | ML23180A051.
Location in Application of NSHC | Pages 3-6 of Enclosure 1.
Brief Description of Amendment(s) | The proposed supplemental License Amendment Request (LAR) proposes to add License Condition 2.C.21 that approves the License Termination Plan (LTP) and adds a license condition that establishes the criteria for determining when changes to the LTP require prior NRC approval.
Proposed Determination | NSHC.
Name of Attorney for Licensee, Mailing Address | Gregory Di Carlo, Vice President/General Counsel, NorthStar Group Services, Inc., 15760 West Power Street, NA1A, Crystal River, FL 34428.
NRC Project Manager, Telephone Number | Timothy Barvitskie, 301-415-2480.
Duke Energy Progress, LLC; Shearon Harris Nuclear Power Plant, Unit 1; Wake and Chatham Counties, NC
Docket No(s) | 50-400.
Application date | May 31, 2023.
ADAMS Accession No | ML23151A724.
Location in Application of NSHC | Pages 18-20 of the Enclosure.
Brief Description of Amendment(s) | The license amendment request proposes to certain technical specifications (TSs) to align with those in Revision 5 of NUREG-1431, “Standard Technical Specifications—Westinghouse Plants.” Specifically, the proposed amendment will modify TS Surveillance Requirement (SR) 4.6.1.1 to eliminate the requirement to perform periodic position verification for containment penetrations that are maintained locked, sealed, or otherwise secured closed, as well as adopt TS Task Force (TSTF) Improved Standard TS (ISTS) Change Traveler No. 45 (TSTF-45-A), Revision 2, “Exempt Verification of Containment Isolation Valves that are Not Locked, Sealed, or Otherwise Secured.” The proposed amendment will also revise Shearon Harris Nuclear Plant TS 3.3.3.5 to increase the completion time for inoperable Remote Shutdown System components to a time that is more consistent with their safety significance and remove the requirement to submit a Special Report. The proposed amendment will also relocate the content in Table 3.3-9 and Table 4.3-6 in accordance with TSTF-266-A, Revision 3, “Eliminate the Remote Shutdown System Table of Instrumentation and Controls.” The proposed amendment will update SR 4.3.1.1, Table 4.3-1 to address the application of the Surveillance Frequency Control Program (SFCP) to establish the Frequency for performance of the Analog Channel Operational Test of select Reactor Trip System instrumentation. Additionally, changes are also proposed to the Administrative Controls Section of the TS to reflect current organizational titles as well as remove reporting requirements that are redundant to existing regulations.
Proposed Determination | NSHC.
Name of Attorney for Licensee, Mailing Address | Tracey Mitchell LeRoy, Deputy General Counsel, Duke Energy Corporation, 4720 Piedmont Row Dr., Charlotte, NC 28210.
NRC Project Manager, Telephone Number | Michael Mahoney, 301-415-3867.
Energy Harbor Nuclear Corp. and Energy Harbor Nuclear Generation LLC; Perry Nuclear Power Plant, Unit 1; Lake County, OH
Docket No(s) | 50-440.
Application date | August 07, 2023.
ADAMS Accession No | ML23220A044.
Location in Application of NSHC | Pages 4 and 5 of Attachment 1.
Brief Description of Amendment(s) | The proposed amendment would remove the table of contents from the technical specifications and place it under licensee control.
Proposed Determination | NSHC.
Name of Attorney for Licensee, Mailing Address | Rick Giannantonio, General Counsel, Energy Harbor Nuclear Corp.,168 E. Market Street, Akron, OH 44308-2014.
NRC Project Manager, Telephone Number | Scott Wall, 301-415-2855.
Holtec Decommissioning International, LLC, Holtec Indian Point 2, LLC, and Holtec Indian Point 3, LLC; Indian Point Station Units 1, 2 and 3; Westchester County, NY
Docket No(s) | 50-003, 50-247, 50-286.
Application date | November 17, 2022, as supplemented by letter dated July 11, 2023.
ADAMS Accession No | ML22321A148, ML23192A100.
Location in Application of NSHC | Pages 16-19 of the Enclosure.
Brief Description of Amendment(s) | The license amendment request proposes to replace the Indian Point Energy Center Permanently Defueled Emergency Plan and associated Permanently Defueled Emergency Action Level Technical Bases Document (EAL) with an Independent Spent Fuel Storage Installation Only Emergency Plan and associated EAL scheme.
Proposed Determination | NSHC.
Name of Attorney for Licensee, Mailing Address | Erin Connolly, Corporate Counsel—Legal, Holtec International, Krishna P. Singh Technology Campus, 1 Holtec Blvd., Camden, NJ 08104.
NRC Project Manager, Telephone Number | Karl Sturzebecher, 301-415-8534.
Holtec Decommissioning International, LLC, Holtec Indian Point 2, LLC, and Holtec Indian Point 3, LLC; Indian Point Station Units 1, 2 and 3; Westchester County, NY
Docket No(s) | 50-003, 50-247, 50-286.
Application date | November 02, 2022.
ADAMS Accession No | ML22306A126.
Location in Application of NSHC | Pages 21-24 of the Enclosure.
Brief Description of Amendment(s) | This license amendment request proposes to revise the Indian Point Energy Center Renewed Facility Licenses and Appendix A, “Permanently Defueled Technical Specifications and Bases” and the Indian Point Unit 3 Appendix C, “Inter—Unit Fuel Transfer Technical Specifications” to reflect removal of all spent nuclear fuel from the Indian Point Unit 2 and Indian Point Unit 3 Spent Fuel Pits to dry cask storage within the site's controlled Independent Spent Fuel Storage Installation.
Proposed Determination | NSHC.
Name of Attorney for Licensee, Mailing Address | Erin Connolly, Corporate Counsel—Legal, Holtec International, Krishna P. Singh Technology Campus, 1 Holtec Blvd., Camden, NJ 08104.
NRC Project Manager, Telephone Number | Karl Sturzebecher, 301-415-8534.
Holtec Decommissioning International, LLC, Holtec Indian Point 2, LLC, and Holtec Indian Point 3, LLC; Indian Point Station Units 1, 2 and 3; Westchester County, NY
Docket No(s) | 50-003, 50-247, 50-286.
Application date | January 17, 2023, as supplemented by letter dated July 11, 2023.
ADAMS Accession No | ML23024A046; ML23194A044.
Location in Application of NSHC | Pages 4-7 of Attachment 1.
Brief Description of Amendment(s) | These license amendment requests propose to revise the Holtec Indian Point Unit 1, 2 and 3's renewed facility license to reflect the requirements associated with security changes for the Independent Spent Fuel Storage Installation Facility. The proposed plan will supersede the currently approved Physical Security, Training & Qualification and Safeguards Contingency Plan.
Proposed Determination | NSHC.
Name of Attorney for Licensee, Mailing Address | Erin Connolly, Corporate Counsel—Legal, Holtec International, Krishna P. Singh Technology Campus, 1 Holtec Blvd., Camden, NJ 08104.
NRC Project Manager, Telephone Number | Karl Sturzebecher, 301-415-8534.
Northern States Power Company—Minnesota; Prairie Island Nuclear Generating Plant, Units 1 and 2; Goodhue County, MN
Docket No(s) | 50-282, 50-306.
Application date | June 22, 2023.
ADAMS Accession No | ML23173A069.
Location in Application of NSHC | Pages 11-12 of the Enclosure.
Brief Description of Amendment(s) | The proposed amendments would revise Prairie Island Nuclear Generating Plant Technical Specification (TS) 3.7.8, “Cooling Water (CL) System,” required actions for Condition B from verification of operability of both CL pumps that supply the operable CL header to verification of the operability of a safeguards CL pump supplying the operable CL header. The proposed amendment would also remove reference to an expired one-time allowance for the completion time for TS 3.7.8 required action B.1.
Proposed Determination | NSHC.
Name of Attorney for Licensee, Mailing Address | Peter M. Glass, Assistant General Counsel, Xcel Energy, 414 Nicollet Mall—401-8, Minneapolis, MN 55401.
NRC Project Manager, Telephone Number | Brent Ballard, 301-415-0680.
PSEG Nuclear LLC; Salem Nuclear Generating Station, Units 1 and 2; Salem County, NJ
Docket No(s) | 50-272, 50-311.
Application date | June 23, 2023.
ADAMS Accession No | ML23174A186.
Location in Application of NSHC | Pages 127-130 of the Enclosure.
Brief Description of Amendment(s) | The proposed amendment would revise the Salem Nuclear Generating Station, Units 1 and 2, Technical Specification 6.8.4.f, “Primary Containment Leakage Rate Testing Program,” by replacing the reference to Regulatory Guide 1.163 with a reference to Nuclear Energy Institute (NEI) Report NEI 94-01, Revision 3-A and the conditions and limitations specified in NEI 94-01, Revision 2-A.
Proposed Determination | NSHC.
Name of Attorney for Licensee, Mailing Address | Francis Romano, PSEG—Services Corporation, 80 Park Plaza, T-10, Newark, NJ 07102.
NRC Project Manager, Telephone Number | James Kim, 301-415-4125.
Susquehanna Nuclear, LLC and Allegheny Electric Cooperative, Inc.; Susquehanna Steam Electric Station, Units 1 and 2; Luzerne County, PA
Docket No(s) | 50-387, 50-388.
Application date | June 08, 2023.
ADAMS Accession No | ML23159A160.
Location in Application of NSHC | Pages 9-11 of Enclosure 1.
Brief Description of Amendment(s) | The proposed amendments would modify various technical specification requirements on control rod withdrawal order and conditions to protect against a postulated control rod drop accident during startup and low power conditions and include associated formatting changes to the technical specifications.
Proposed Determination | NSHC.
Name of Attorney for Licensee, Mailing Address | Damon D. Obie, Esq, 1780 Hughes Landing Blvd., Suite 800, The Woodlands, TX 7738.
NRC Project Manager, Telephone Number | Audrey Klett, 301-415-0489.
Tennessee Valley Authority; Sequoyah Nuclear Plant, Unit 1; Hamilton County, TN; Tennessee Valley Authority; Sequoyah Nuclear Plant, Unit 2; Hamilton County, TN; Tennessee Valley Authority; Watts Bar Nuclear Plant, Unit 1; Rhea County, TN; Tennessee Valley Authority; Watts Bar Nuclear Plant, Unit 2; Rhea County, TN
Docket No(s) | 50-327, 50-328, 50-390, 50-391.
Application date | August 02, 2023.
ADAMS Accession No | ML23214A385.
Location in Application of NSHC | Pages 3-5 of the Enclosure.
Brief Description of Amendment(s) | The proposed amendments would adopt Technical Specifications Task Force (TSTF) Traveler TSTF-567-A, Revision 1, “Add Containment Sump TS to Address GSI [Generic Safety Issue]-191 Issues.” The amendments would revise the TS to address the condition of the containment sump made inoperable due to containment accident generated and transported debris exceeding the analyzed limits.
Proposed Determination | NSHC.
Name of Attorney for Licensee, Mailing Address | David Fountain, Executive VP and General Counsel, Tennessee Valley Authority, 6A West Tower, 400 West Summit Hill Drive, Knoxville, TN 37902.
NRC Project Manager, Telephone Number | Perry Buckberg, 301-415-1383.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Arizona Public Service Company, et al; Palo Verde Nuclear Generating Station, Units 1, 2, and 3; Maricopa County, AZ
Docket No(s) | 50-528, 50-529, 50-530.
Amendment Date | August 09, 2023.
ADAMS Accession No | ML23199A294.
Amendment No(s) | 221 (Unit 1), 221 (Unit 2), and 221 (Unit 3).
Brief Description of Amendment(s) | The amendments adopted Technical Specifications Task Force (TSTF) Traveler TSTF-107, Revision 4, “Separate Control Rods that are Untrippable versus Inoperable,” and, additionally, provided an action for limited duration loss of some position indication for multiple control element assemblies, in lieu of Limiting Condition for Operation (LCO) 3.0.3 entry. The amendments modified Technical Specification LCO 3.1.5, “Control Element Assembly (CEA) Alignment,” Conditions A through D.
Public Comments Received as to Proposed NSHC (Yes/No) | No.
Constellation Energy Generation, LLC; Braidwood Station, Units 1 and 2; Will County, IL
Docket No(s) | 50-456, 50-457.
Amendment Date | July 26, 2023.
ADAMS Accession No | ML23188A129.
Amendment No(s) | 233 (Unit 1); 233 (Unit 2).
Brief Description of Amendment(s) | The amendment revised the “Steam Generator (SG) Program” and the “Steam Generator (SG) Tube Inspection Report” technical specifications based on Technical Specifications Task Force (TSTF) Traveler TSTF-577, Revision 1, “Revised Frequencies for Steam Generator Tube Inspections” (TSTF-577), and the associated NRC staff safety evaluation of TSTF-577.
Public Comments Received as to Proposed NSHC (Yes/No) | No.
Constellation Energy Generation, LLC; Byron Station, Units 1 and 2; Will County, IL
Docket No(s) | 50-454, 50-455.
Amendment Date | July 20, 2023.
ADAMS Accession No | ML23122A302.
Amendment No(s) | 233 (Unit 1), 233 (Unit 2).
Brief Description of Amendment(s) | The amendment revised the technical specifications (TSs) 2.1.1, “Reactor Core SLs [Safety Limits],” and 4.2.1, “Fuel Assemblies.” The changes will allow a previously irradiated accident tolerant fuel (ATF) lead test assembly (LTA) to be further irradiated during Byron, Unit 2, Cycle 25. No technical changes are made to the Byron, Unit 1, Operating License. The Byron, Unit 1, Amendment No. is administratively incremented because the TSs are common to both units.
Public Comments Received as to Proposed NSHC (Yes/No) | No.
Constellation Energy Generation, LLC; Calvert Cliffs Nuclear Power Plant, Units 1 and 2; Calvert County, MD
Docket No(s) | 50-317, 50-318.
Amendment Date | August 08, 2023.
ADAMS Accession No | ML23188A040.
Amendment No(s) | 346 (Unit 1); 324 (Unit 2).
Brief Description of Amendment(s) | The amendment revised the “Steam Generator (SG) Program” and the “Steam Generator (SG) Tube Inspection Report” technical specifications based on Technical Specifications Task Force (TSTF) Traveler TSTF-577, Revision 1, “Revised Frequencies for Steam Generator Tube Inspections” (TSTF-577), and the associated NRC staff safety evaluation of TSTF-577.
Public Comments Received as to Proposed NSHC (Yes/No) | No.
Constellation Energy Generation, LLC; Dresden Nuclear Power Station, Units 2 and 3; Grundy County, IL
Docket No(s) | 50-237, 50-249.
Amendment Date | August 03, 2023.
ADAMS Accession No | ML23174A150.
Amendment No(s) | 282 (Unit 2); 275 (Unit 3).
Brief Description of Amendment(s) | The amendments revised the control rod scram time limits in Dresden Nuclear Power Station, Units 2 and 3, technical specification table 3.1.4-1, “Control Rod Scram Times.”
Public Comments Received as to Proposed NSHC (Yes/No) | No.
Constellation Energy Generation, LLC; Quad Cities Nuclear Power Station, Units 1 and 2; Rock Island County, IL
Docket No(s) | 50-254, 50-265.
Amendment Date | August 07, 2023.
ADAMS Accession No | ML23178A074.
Amendment No(s) | 296 (Unit 1); 292 (Unit 2).
Brief Description of Amendment(s) | The amendments adopted Technical Specifications Task Force (TSTF) Traveler 416 (TSTF-416), Revision 0, “Low Pressure Coolant Injection (LPCI) Valve Alignment Verification Note Location.” The adoption of TSTF-416 revised TS 3.5.1, “ECCS [Emergency Core Cooling Systems]—Operating” by moving the LPCI valve alignment note from Surveillance Requirement 3.5.1.2 to Limiting Condition for Operation 3.5.1.
Public Comments Received as to Proposed NSHC (Yes/No) | No.
Constellation Energy Generation, LLC; R. E. Ginna Nuclear Power Plant; Wayne County, New York
Docket No(s) | 50-244.
Amendment Date | July 21, 2023.
ADAMS Accession No | ML23191A059.
Amendment No(s) | 155.
Brief Description of Amendment(s) | The amendment revised the “Steam Generator (SG) Program” and the “Steam Generator (SG) Tube Inspection Report” technical specifications based on Technical Specifications Task Force (TSTF) Traveler TSTF-577, Revision 1, “Revised Frequencies for Steam Generator Tube Inspections” (TSTF-577), and the associated NRC staff safety evaluation of TSTF-577.
Public Comments Received as to Proposed NSHC (Yes/No) | No.
PSEG Nuclear LLC; Hope Creek Generating Station; Salem County, NJ; PSEG Nuclear LLC; Salem Nuclear Generating Station, Unit Nos. 1 and 2; Salem County, NJ
Docket No(s) | 50-354, 50-272, 50-311.
Amendment Date | August 14, 2023.
ADAMS Accession No | ML23192A821.
Amendment No(s) | 234 (Hope Creek), 347 (Salem Unit 1), 328 (Salem Unit 2).
Brief Description of Amendment(s) | The amendments revised the Hope Creek and Salem technical specifications (TSs) to remove TS Section 5.5, Meteorological Tower Location. The amendments removed the reference to the figures removed from the TSs by the previously approved amendments.
Public Comments Received as to Proposed NSHC (Yes/No) | No.
Southern Nuclear Operating Company, Inc.; Vogtle Electric Generating Plant, Unit 3; Burke County, GA
Docket No(s) | 52-025.
Amendment Date | July 31, 2023.
ADAMS Accession No | ML23158A243.
Amendment No(s) | 192.
Brief Description of Amendment(s) | The amendment removed the contents of Combined License (COL) Appendix C, “Inspections, Tests, Analyses, and Acceptance Criteria,” and make appropriate revisions to the COL that references this appendix.
Public Comments Received as to Proposed NSHC (Yes/No) | No.
Southern Nuclear Operating Company, Inc.; Vogtle Electric Generating Plant, Unit 4; Burke County, GA
Docket No(s) | 52-026.
Amendment Date | July 19, 2023.
ADAMS Accession No | ML23158A207.
Amendment No(s) | 189.
Brief Description of Amendment(s) | This amendment involved changes to the Vogtle Electric Generating Plant, Unit 4, Combined License (COL) Condition 2.D.(9) specifically to include exceptions that temporarily delay the effectiveness of certain technical specification (TS) requirements prior to initial criticality of the reactor core while in operating Modes 4, 5, and 6, as well as changes to COL Appendix A, TS Limiting Condition for Operation 3.0.7, to apply these exceptions.
Public Comments Received as to Proposed NSHC (Yes/No) | No.
Southern Nuclear Operating Company, Inc.; Vogtle Electric Generating Plant, Units 1 and 2; Burke County, GA
Docket No(s) | 50-424, 50-425.
Amendment Date | July 31, 2023.
ADAMS Accession No | ML23158A018.
Amendment No(s) | 219 (Unit 1), 202 (Unit 2).
Brief Description of Amendment(s) | The amendments revised the licensing basis to support a full scope application of the Alternative Source Term (AST) radiological analysis methodology and modifies TS 1.1, “Definitions”; TS 3.3.6, “Containment Ventilation Isolation Instrumentation”; TS 3.4.16, “RCS [Reactor Coolant System] Specific Activity”; TS 3.9.1, “Boron Concentration”; TS 3.9.2, “Unborated Water Source Isolation Valves”; TS 3.9.3, “Nuclear Instrumentation”; and TS 3.9.4, “Containment Penetrations”; consistent with Technical Specification Task Force (TSTF) Travelers TSTF-51-A, “Revise containment requirements during handling irradiated fuel and core alterations,” Revision 2 (ADAMS Accession No. ML993190284); TSTF-471-A, “Eliminate use of term CORE ALTERATIONS in ACTIONS and Notes,” Revision 1 (ADAMS Accession No. ML19101A215); and TSTF-490-A, “Deletion of E Bar Definition and Revision to RCS Specific Activity Tech Spec,” Revision 0 (ADAMS Accession No. ML052630462). The proposed amendments revise the licensing basis to use an AST in evaluating the offsite and Control Room (CR) radiological consequences of the Vogtle, Units 1 and 2, design basis accidents (DBAs). TSTF-51 revises certain TSs to remove the requirements for certain engineered safety features (ESF) systems to operate after sufficient radioactive decay of irradiated fuel has occurred following a plant shutdown. TSTF-471 eliminates the use of the defined term CORE ALTERATIONS from TS 3.9.1, “Boron Concentration”; TS 3.9.2, “Unborated Water Source Isolation Valves”; and TS 3.9.4, “Containment Penetrations.” TSTF-490 replaces the current limits on primary coolant gross specific activity with limits on primary coolant noble gas activity.
Public Comments Received as to Proposed NSHC (Yes/No) | No.
Tennessee Valley Authority; Browns Ferry Nuclear Plant, Unit 1; Limestone County, AL; Tennessee Valley Authority; Browns Ferry Nuclear Plant, Unit 2; Limestone County, AL; Tennessee Valley Authority; Browns Ferry Nuclear Plant, Unit 3; Limestone County, AL; Tennessee Valley Authority; Sequoyah Nuclear Plant, Unit 1; Hamilton County, TN; Tennessee Valley Authority; Sequoyah Nuclear Plant, Unit 2; Hamilton County, TN
Docket No(s) | 50-259, 50-260, 50-296, 50-327, 50-328.
Amendment Date | July 24, 2023.
ADAMS Accession No | ML23171A886.
Amendment No(s) | Browns Ferry 331 (Unit 1), 354 (Unit 2), 314 (Unit 3); Sequoyah 365 (Unit 1), 359 (Unit 2).
Brief Description of Amendment(s) | The amendments revised certain Technical Specification (TS) surveillance requirements (SRs) by adding exceptions to the SRs for when automatic valves or dampers are locked, sealed, or otherwise secured in the actuated position, in order to consider the SR met based on TS Task Force (TSTF) Traveler TSTF-541, Revision 2, “Add Exceptions to Surveillance Requirements for Valves and Dampers Locked in the Actuated Position.”
Public Comments Received as to Proposed NSHC (Yes/No) | No.
Wolf Creek Nuclear Operating Corporation; Wolf Creek Generating Station, Unit 1; Coffey County, KS
Docket No(s) | 50-482.
Amendment Date | July 26, 2023.
ADAMS Accession No | ML23130A290.
Amendment No(s) | 235.
Brief Description of Amendment(s) | The amendment revised Technical Specification (TS) 5.5.9, “Steam Generator (SG) Program,” and TS 5.6.10, “Steam Generator Tube Inspection Report,” based on Technical Specifications Task Force (TSTF) Traveler TSTF-577, Revision 1, “Revised Frequencies for Steam Generator Tube Inspections” (ADAMS Accession No. ML21060B434) and the associated NRC staff safety evaluation (ADAMS Accession No. ML21098A188).
Public Comments Received as to Proposed NSHC (Yes/No) | No.
Wolf Creek Nuclear Operating Corporation; Wolf Creek Generating Station, Unit 1; Coffey County, KS
Docket No(s) | 50-482.
Amendment Date | August 7, 2023.
ADAMS Accession No | ML23201A121.
Amendment No(s) | 236.
Brief Description of Amendment(s) | The amendment revised the technical specifications related to reactor coolant system operational leakage and the definition of the term “LEAKAGE” based on Technical Specifications Task Force (TSTF) Traveler TSTF-554, Revision 1, “Revise Reactor Coolant Leakage Requirements” (ADAMS Accession No. ML20016A233), and the associated NRC staff safety evaluation (ADAMS Accession No. ML20322A024).
Public Comments Received as to Proposed NSHC (Yes/No) | No.

Dated: August 23, 2023.
For the Nuclear Regulatory Commission.
Jamie Heisserer,
Deputy Director, Division of Operating Reactor Licensing, Office of Nuclear Reactor Regulation.

[FR Doc. 2023-18515 Filed 9-1-23; 8:45 am]

BILLING CODE 7590-01-P